DEPARTMENT OF TRANSPORTATION

Federal Aviation Administration

Notice of Opportunity for Public Comment on Surplus Property Release at Greenville-Spartanburg International Airport, Greer, South Carolina

AGENCY: Federal Aviation Administration (FAA), DOT.

ACTION: Notice.

SUMMARY: Under the provisions of title 49, U.S.C. 47153(c), notice is being given that the FAA is considering a request from the Greenville-Spartanburg Airport Commission to waive the requirement that a 17.89-acre parcel (Tract 8), a 20.25-acres parcel (Tract 9), and a 4.07-acre parcel (Tract 19) of surplus property, located at the Greenville-Spartanburg International Airport, be used for aeronautical purposes.

DATES: Comments must be received on or before August 30, 2004.

ADDRESSES: Comments on this notice may be mailed or delivered in triplicate to the FAA at the following address: Atlanta Airports District Office, Attn: Tracie D. Kleine, Program Manager, 1701 Columbia Ave., Suite 2-260, Atlanta, GA 30337-2747.

In addition, one copy of any comments submitted to the FAA must be mailed or delivered to Mr. J. Garrett Jackson, AAE, Executive Director of the Greenville-Spartanburg Airport Commission at the following address: 2000 GSP Drive, Suite 1, Greer, SC 29651.

FOR FURTHER INFORMATION CONTACT: Tracie D. Kleine, Program Manager, Atlanta Airports District Office, 1701 Columbia Ave., Suite 2-260, Atlanta, GA 30337-2747, (404) 305-7148. The application may be reviewed in person at this same location.

SUPPLEMENTARY INFORMATION: The FAA is reviewing a request by the Greenville-Spartanburg Airport Commission to release 42.21 acres of surplus property at the Greenville-Spartanburg International Airport. This fee simple title transfer of land to the South Carolina Department of Transportation (SCDOT) is for the purpose of providing Right-of-Way (ROW) for the second phase of construction for the J. Verne Smith Parkway and for the reconstruction of Airport Interchange and Interstate 85. The proposed use of this property is compatible with airport operations.

Any person may inspect the request in person at the FAA office listed above under FOR FURTHER INFORMATION CONTACT. In addition, any person may, upon request, inspect the request, notice and other documents germane to the request in person at the Greenville-Spartanburg Airport Commission.

Issued in Atlanta, Georgia on July 23, 2004.
Scott L. Seritt,
Manager, Atlanta Airports District Office, Southern Region.

[FR Doc. 04-17408 Filed 7-29-04; 8:45 am]

BILLING CODE 4910-13-M